FEDERAL COMMUNICATIONS COMMISSION

47 CFR Part 54

[WC Dkt. No. 17-310; DA 20-1420; FRS 17373]

Promoting Telehealth in Rural America

AGENCY: Federal Communications Commission.

ACTION: Final rule and order; notification of operational date.

SUMMARY: In this document, the Federal Communications Commission (Commission) announces the operational date of certain rules for funding year 2020.

DATES: This Order is effective March 15, 2021.

FOR FURTHER INFORMATION CONTACT: Bryan Boyle, Telecommunications Access Policy Division, Wireline Competition Bureau at (202) 418-7400 or TTY: (202) 418-0484 or via email: Bryan.Boyle@fcc.gov.

SUPPLEMENTARY INFORMATION: This is a synopsis of the Order in WC Docket No. 17-310; DA 20-1420, adopted and released November 30, 2020. Due to the COVID-19 pandemic, the Commission's headquarters will be closed to the general public until further notice. The full text of this document is available at the following internet address: https://docs.fcc.gov/public/attachments/DA-20-1420A1.pdf.

I. Introduction

1. The Wireline Competition Bureau (Bureau) amends the prior decision, adopted in the December 2019 Public Notice (DA 19-1253), to delay the implementation date of certain rule changes introduced in the Promoting Telehealth Report and Order (FCC 19-78). Specifically, in light of changed circumstances, the Bureau finds that the rules should be implemented as soon as possible, and hence the Order accelerates the operational date of those rules, thereby ensuring that the updated site and service substitution rules, corrective and operational Service Provider Identification Number (SPIN) change rules, service delivery deadline extension rules, and invoicing deadline extension rules adopted in the Promoting Telehealth Report and Order will be fully effective for the remainder of funding year 2020. The Bureau anticipates that this action will help Rural Health Care (RHC) Program participants, now faced with the challenges of the COVID-19 pandemic, address changing circumstances in the current funding year and beyond.

II. Discussion

2. Through the Order the Bureau ensures that the rule changes in the Promoting Telehealth Report and Order adopting site and service substitutions for the Telecom Program, amending the SPIN change process to allow for corrective and operational changes across both the Healthcare Connect Fund and Telecom Programs, establishing a service delivery deadline of June 30 while permitting a one-year extension of the service delivery deadline, and permitting a one-time 120-day invoice filing extension will be effective for the remainder of funding year 2020. The December 2019 Public Notice pushed back the operational dates to funding year 2021 for all rule changes requiring approval pursuant to the Paperwork Reduction Act (PRA). Now that such PRA approval (eff. June 19, 2020 (85 FR 37022) has been obtained and in light of changed circumstances arising from the COVID-19 emergency, the Bureau recognizes that making these aforementioned rules operational for funding year 2020 could provide helpful flexibility to health care providers during the current funding year. Accordingly, the Bureau amends the earlier action in the December 2019 Public Notice so that the updated site and service substitution rules, corrective and operational SPIN change rules, and service delivery deadline and invoicing deadline extension rules will become operational for the remainder of funding year 2020, on March 15, 2021.

3. The COVID-19 pandemic has caused an unprecedented medical emergency, highlighting the need for remote telehealth options to treat and save the lives of Americans. The Bureau anticipates that the rule changes that are made operational for the remainder of funding year 2020 will help health care providers with changing circumstances as they serve patients in rural areas during this COVID-19 pandemic. The Bureau takes this action to amend the operational date of the rules to provide health care providers with increased flexibility to make changes to funding requests and seek extensions of RHC Program deadlines. The rules that are the subject of the Order were intended to harmonize requirements between the Telecom and Healthcare Connect Fund Programs and reduce administrative burdens on health care providers. Amending the operational date of the rules will, among other things, allow health care providers to seek extensions of the service delivery deadlines and invoice deadlines, make site and service substitution requests, and make SPIN changes. The COVID-19 pandemic is a heavy burden on health care providers, and the amendment of the operational date of the rules will assist program participants as they work to treat patients during the health emergency. Accordingly, the Bureau finds good cause exists given the urgent health care crisis to dispense with additional notice and comment, to the extent such notice and comment would normally be appropriate, before taking this action. The Bureau notes that the Order is consistent with the its prior actions in response to the COVID-19 pandemic, waiving filing deadlines and other administrative requirements to increase broadband connectivity and administrative flexibility for health care providers.

4. The Order will become effective March 15, 2021. Any program participants seeking site and service substitutions or SPIN changes for the portion of funding year 2020 prior to the effective date of the Order may seek a waiver of the Commission's rules. Additionally, in the event that a program participant is negatively impacted by any of the actions taken in the Order, it may file a petition for waiver seeking relief from the updated effective date and request to use the rules predating the Promoting Telehealth Report and Order through funding year 2020.

5. The Universal Service Administrative Company (USAC), the Universal Service Administrator, is currently working to implement technology changes that will allow program participants to make filings requesting changes consistent with the Promoting Telehealth Report and Order. In conjunction with the implementation of the new rules, USAC is updating its information technology systems to allow program participants to file the appropriate forms; however, those changes have not been implemented. Currently, USAC is working under a schedule stemming from the December 2019 Public Notice, in which the changes were to be implemented prior to the start of funding year 2021. The Commission expects that USAC will have implemented all technology deployments related to these rule changes before the end of funding year 2020. Because invoice extension requests and service delivery deadline requests occur at the end of the funding year, there should be no need for health care providers to make these requests before USAC is in position to accept such requests. Some health care providers, however, will likely wish to make SPIN change and site and service substitution requests mid-year. To ensure that the changes can be requested throughout the year, the Commission directs USAC to develop and publicize within 30 days of the Federal Register publication, an interim system for processing site and service substitutions and SPIN changes that will be available until USAC launches its permanent technological solution.

III. Ordering Clauses

6. Accordingly, it is ordered that pursuant to the authority in sections 1-4 and 254 of the Communications Act of 1934, as amended, 47 U.S.C. 151-154 and 254, and pursuant to §§ 0.91 and 0.291 of the Commission's rules, 47 CFR 0.91 and 0.291, amending the operational date of §§ 54.624, 54.625, 54.626, and 54.627 of the Commission's rules, 47 CFR 54.624, 54.625, 54.626, and 54.627, as indicated herein.

7. It is further ordered that, pursuant to § 1.102(b)(1) of the Commission's rules, 47 CFR 1.102(b)(1), the order shall be effective March 15, 2021.

Federal Communications Commission.
Cheryl L. Callahan,
Assistant Chief, Telecommunications Access Policy Division Wireline Competition Bureau.

Editorial note: This document was received for publication at the Office of the Federal Register on January 8, 2021.

[FR Doc. 2021-00588 Filed 2-11-21; 8:45 am]

BILLING CODE 6712-01-P